DEPARTMENT OF TRANSPORTATION

National Highway Traffic Safety Administration

[Docket No. NHTSA-2008-0086; Notice 1]

Goodyear Dunlop Tires North America, Ltd., Receipt of Petition for Decision of Inconsequential Noncompliance

Goodyear Dunlop Tires North American, Ltd, (GDTNA), has determined that certain tires that it manufactured during the period beginning January 2003 through July 2004, do not fully comply with paragraph S6.5(f) of 49 CFR 571.119 (Federal Motor Vehicle Safety Standard (FMVSS) No. 119 New Pneumatic Tires for Motor Vehicles With a GVWR of More than 4,536 Kilograms (10,000 pounds) and Motorcycles. GDTNA has filed an appropriate report pursuant to 49 CFR Part 573, Defect and Noncompliance Responsibility and Reports.

Pursuant to 49 U.S.C. 30118(d) and 30120(h) (see implementing rule at 49 CFR part 556), GDTNA has petitioned for an exemption from the notification and remedy requirements of 49 U.S.C. Chapter 301 on the basis that this noncompliance is inconsequential to motor vehicle safety.

This notice of receipt of GDTNA's petition is published under 49 U.S.C. 30118 and 30120 and does not represent any agency decision or other exercise of judgment concerning the merits of the petition.

Affected are approximately 3,050 150/60R18 Dunlop D251 motorcycle tires produced from January 2003 through July 2004. Paragraph S6.5(f) of 49 CFR 571.119 requires:

S6.5(f) The actual number of piles and the composition of the ply cord material in the sidewall and, if different, in the tread area.

GDTNA explained that the subject tires are marketed with incorrect construction materials information on the sidewalls. The labeling incorrectly lists “TREAD 5 PLIES 2 RAYON + 3 NYLON” and “SIDEWALL: 2 PLIES 2 RAYON” whereas this labeling should be “TREAD 4 PLIES 2 NYLON + 2 NYLON” and “SIDEWALL 2 PLIES 2 NYLON”.

GDTNA stated that it believes the noncompliance is inconsequential to motor vehicle safety because most consumers do not base tire purchase or vehicle operation on the construction information listed on the tire sidewalls, the tires meet or exceed all other applicable FMVSS, they were designed, manufactured and tested to the standards and regulations as applicable, and they meet all of the internal and regulatory performance test requirements.

GDTNA also stated that it has corrected the problem with the affected tire mold and that all subsequent production will have the correct material information shown on the sidewall.

GDTNA additionally stated that no customer complaints have been received.

GDTNA requested that NHTSA consider its petition and grant an exemption from the recall requirements of the National Traffic and Motor Vehicle Safety Act on the basis that the noncompliance described above is inconsequential as it relates to motor vehicle safety.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to U.S. Department of Transportation, Docket Operations, M-30, West Building Ground Floor, Room W12-140, 1200 New Jersey Avenue, SE., Washington, DC 20590. The Docket Section is open on weekdays from 10 am to 5 pm except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 11, 2008.

Authority: (49 U.S.C. 30118, 30120: delegations of authority at CFR 1.50 and 501.8).

Issued on: May 5, 2008.
Claude H. Harris,
Director, Office of Vehicle Safety Compliance.

[FR Doc. E8-10481 Filed 5-9-08; 8:45 am]

BILLING CODE 4910-59-P